DEPARTMENT OF COMMERCE

International Trade Administration

[C-570-917]

Laminated Woven Sacks From the People's Republic of China: Final Results of the Expedited Sunset Review of the Countervailing Duty Order

AGENCY: Enforcement and Compliance, formerly Import Administration, International Trade Administration, Department of Commerce.

DATES: Effective Date: November 19, 2013.

SUMMARY: On July 1, 2013, the Department of Commerce (Department) initiated a sunset review of the countervailing duty order on laminated woven sacks from the People's Republic of China (PRC). The Department finds that revocation of this countervailing duty (CVD) order would be likely to lead to the continuation or recurrence of net countervailable subsidies at the rates in the “Final Results of Review” section of this notice.

FOR FURTHER INFORMATION CONTACT: Toni Page, AD/CVD Operations, Office VII, Enforcement and Compliance, International Trade Administration, U.S. Department of Commerce, 14th Street and Constitution Avenue NW., Washington, DC 20230; telephone (202) 482-1398.

SUPPLEMENTARY INFORMATION:

Background

The CVD order on laminated woven sacks from the PRC was published on August 7, 2008.¹ On July 1, 2013, the Department initiated a sunset review of the order, pursuant to section 751(c) of the Tariff Act of 1930, as amended (the Act).² The Department received notices of intent to participate from Coating Excellence International, LLC, Exopack Holding Corp., Graphic Packaging International, Inc., Hood Packaging Corporation, Polytex Fibers Corporation, and SeaTac Packaging Manufacturing Corporation (collectively, the Laminated Woven Sacks Committee or “the Committee”) within the deadline specified in 19 CFR 351.218(d)(1)(i). The Department received an adequate substantive response to the notice of initiation from the domestic interested parties within the 30-day deadline specified in 19 CFR 351.218(d)(3)(i). The Department received no substantive responses from the Government of the PRC (GOC) or any Chinese producers or exporters.

¹ See Laminated Woven Sacks From the People's Republic of China: Countervailing Duty Order, 73 FR 45955 (August 7, 2008).

² See Initiation of Five-Year (“Sunset”) Reviews, 78 FR 39256 (July 1, 2013).

19 CFR 351.218 (e)(1)(ii)(A) states that the Department will normally conclude that respondent interested parties have provided adequate response to a notice of initiation where it receives complete substantive responses from respondent interested parties accounting on average for more than 50 percent, on a volume basis (or a value basis, if appropriate), of the total exports of the subject merchandise to the United States over the five calendar years preceding the year of publication of the notice of initiation. Moreover, in a sunset review of a CVD order, the Department will normally conduct a full review only if it receives adequate responses from domestic and respondent interested parties and a complete substantive response from the foreign government.³ Because the Department received no responses from the GOC and respondent interested parties, the Department is conducting an expedited (120-day) sunset review of the CVD order on laminated woven sacks from the PRC pursuant to 19 CFR 351.218(e)(1)(ii)(C)(2).

³ See 19 CFR 351.218(e)(2) and 351.218(e)(1)(ii)(B) and (C).

As explained in the memorandum from the Assistant Secretary for Enforcement and Compliance, the Department has exercised its discretion to toll deadlines for the duration of the closure of the Federal Government from October 1, through October 16, 2013.⁴ Therefore, all deadlines in this segment of the proceeding have been extended by 16 days. The revised deadline for the final results of this sunset review is November 14, 2013.

⁴ See Memorandum for the Record from Paul Piquado, Assistant Secretary for Enforcement and Compliance, “Deadlines Affected by the Shutdown of the Federal Government” (October 18, 2013).

Scope of the Order

The merchandise covered by this order is laminated woven sacks which are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (BOPP) or to an exterior ply of paper that is suitable for high quality print graphics. A full description of the scope of the order is contained in the Decision Memorandum, which is hereby adopted by this notice.⁵

⁵ See “Issues and Decision Memorandum for the Final Results of the Expedited First Sunset Review of the Countervailing Duty Order on Laminated Woven Sacks from the People's Republic of China,” from Christian Marsh, Deputy Assistant Secretary for Antidumping and Countervailing Duty Operations, to Paul Piquado, Assistant Secretary for Enforcement and Compliance, dated concurrently with this notice (Decision Memorandum).

Analysis of Comments Received

All issues raised in this sunset review are addressed in the Decision Memorandum. The issues discussed in the Decision Memorandum include the likelihood of continuation or recurrence of a countervailable subsidy and the net countervailable subsidy likely to prevail if the order was revoked. Parties can find a complete discussion of all issues raised in this review and the corresponding recommendations in this public memorandum, which is on file electronically via Enforcement and Compliance's Antidumping and Countervailing Duty Centralized Electronic Service System (IA ACCESS). IA ACCESS is available to registered users at http://trade.gov/enforcement/ and in the Central Records Unit in room 7046 of the main Commerce building. In addition, a complete version of the Decision Memorandum can be accessed directly on the Internet at http://enforcement.trade.gov/frn/. The signed Decision Memorandum and electronic versions of the Decision Memorandum are identical in content.

Final Results of Review

Pursuant to sections 752(b)(1) and (3) of the Act, the Department determines that revocation of the CVD order on laminated woven sacks from the PRC would be likely to lead to continuation or recurrence of countervailable subsidies at the following net countervailable subsidy rates:

Manufacturers/ exporters/producers | Net countervailable subsidy (percent)
Zibo Aifudi Plastic Packaging Co., Ltd | 83.34% ad valorem.
Han Shing Chemical Co., Ltd | 277.54% ad valorem.
Ningbo Yong Feng packaging Co., Ltd | 277.54% ad valorem.
Shandong Shouguang Jianyuan Chun Co., Ltd./Shandong Longxing Plastic Products Company Ltd | 406.62% ad valorem.
Shandong Qilu Plastic Fabric Group, Ltd | 358.20% ad valorem.
All others | 280.65% ad valorem.

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing these final results and this notice in accordance with sections 751(c), 752(b), and 777(i)(1) of the Act.

Dated: November 12, 2013.
Paul Piquado,
Assistant Secretary for Enforcement and Compliance.

[FR Doc. 2013-27706 Filed 11-18-13; 8:45 am]

BILLING CODE 3510-DS-P